DEPARTMENT OF ENERGY

Federal Energy Regulatory Commission

[Project No. 1962-000]

Pacific Gas & Electric Company; Notice of Meeting

February 18, 2000.

Take notice that there will be a two day full group meeting of the Rock Creek-Cresta Collaborative on Monday, February 28 and Tuesday February 29, 2000, from 9:00 a.m. to 5:00 p.m. at the Hawthorne Suites, 321 Bercut Drive, in Sacramento, California.

For further information, please contact Elizabeth Molloy at (202) 208-0771.

David P. Boergers,
Secretary.

[FR Doc. 00-4447 Filed 2-24-00; 8:45 am]

BILLING CODE 6717-01-M